DEPARTMENT OF DEFENSE

GENERAL SERVICES ADMINISTRATION

NATIONAL AERONAUTICS AND SPACE ADMINISTRATION

48 CFR Parts 1, 22, and 52

[FAC 2005-79; FAR Case 2015-003; Item I; Docket No. 2014-0050; Sequence No. 1]

RIN 9000-AM82

Federal Acquisition Regulation; Establishing a Minimum Wage for Contractors

Correction

In rule document 2014-29137 beginning on page 74544 in the issue of Monday, December 15, 2014, make the following corrections:

1. On page 74545, in the first column, in the 8th line, “February 13, 2015” should read “December 15, 2014”.

2. On the same page, in the second column, in the seventh line, remove the word “Applicability”.

PART 1—FEDERAL ACQUISITION REGULATIONS SYSTEM

3. On page 74549, in Part 1, in the third column, in the fourteenth and fifteenth lines, the heading for Part 1 is correction to read as set forth above.

§ 52.212-5 [Corrected]

4. On page 74552, in section 52.212-5(c)(10), in the second column, in the sixteenth line, “DEC 2014)” should read “(DEC 2014)”.

[FR Doc. C1-2014-29137 Filed 12-17-14; 8:45 am]

BILLING CODE 1505-01-D